DEPARTMENT OF ENERGY

Federal Energy Regulatory Commission

Combined Notice of Filings #1

Take notice that the Commission received the following exempt wholesale generator filings:

Docket Numbers: EG15-106-000.

Applicants: GenOn Mid-Atlantic, LLC.

Description: Notice of Self-Recertification of Exempt Wholesale Generator Status.

Filed Date: 7/24/15.

Accession Number: 20150724-5035.

Comments Due: 5 p.m. ET 8/14/15.

Take notice that the Commission received the following electric rate filings:

Docket Numbers: ER10-2819-004; ER14-413-002; ER10-2358-005; ER14-1397-003; ER10-3131-005; ER10-2431-005; ER15-2255-001; ER14-1390-003.

Applicants: ALLETE, Inc., ALLETE Clean Energy, Inc., Storm Lake Power Partners I LLC, Storm Lake Power Partners II, LLC, Condon Wind Power, LLC, Chanarambie Power Partners, LLC, Armenia Mountain Wind, LLC, Lake Benton Power Partners LLC.

Description: Notice of Non-Material Change in Status of ALLETE, Inc., et al.

Filed Date: 7/23/15.

Accession Number: 20150723-5173.

Comments Due: 5 p.m. ET 8/13/15.

Docket Numbers: ER15-1560-001.

Applicants: Nevada Power Company.

Description: Compliance filing: OATT Revision to Attachment N 07.22.15 to be effective 7/22/2015.

Filed Date: 7/22/15.

Accession Number: 20150722-5123.

Comments Due: 5 p.m. ET 8/12/15.

Docket Numbers: ER15-2232-000.

Applicants: ISO New England Inc.

Description: ISO New England Inc. Resource Termination—Enerwise Global Technologies, Inc.

Filed Date: 7/21/15.

Accession Number: 20150721-5121.

Comments Due: 5 p.m. ET 8/11/15.

Docket Numbers: ER15-2257-000.

Applicants: Pacific Gas and Electric Company.

Description: Tariff Cancellation: eTariff System Migration: Cancellation of Tariff ID 1000 to be effective 7/23/2015.

Filed Date: 7/23/15.

Accession Number: 20150723-5133.

Comments Due: 5 p.m. ET 8/13/15.

Docket Numbers: ER15-2258-000.

Applicants: Pacific Gas and Electric Company.

Description: Tariff Cancellation: eTariff System Migration: Cancellation of Tariff ID 2000 to be effective 7/23/2015.

Filed Date: 7/23/15.

Accession Number: 20150723-5134.

Comments Due: 5 p.m. ET 8/13/15.

Docket Numbers: ER15-2259-000.

Applicants: Pacific Gas and Electric Company.

Description: Tariff Cancellation: eTariff System Migration: Cancellation of Tariff ID 3000 to be effective 7/23/2015.

Filed Date: 7/23/15.

Accession Number: 20150723-5135.

Comments Due: 5 p.m. ET 8/13/15.

Docket Numbers: ER15-2261-000.

Applicants: Southwest Power Pool, Inc.

Description: § 205(d) Rate Filing: 2855R1 KMEA & KCPL Meter Agent Agreement to be effective 7/1/2015.

Filed Date: 7/24/15.

Accession Number: 20150724-5016.

Comments Due: 5 p.m. ET 8/14/15.

Docket Numbers: ER15-2262-000.

Applicants: Northern States Power Company, a Minnesota corporation.

Description: § 205(d) Rate Filing: 2015-7-24 NSP-Manitoba-US Interface 598-NSP_0.0.0 to be effective 9/1/2015.

Filed Date: 7/24/15.

Accession Number: 20150724-5045.

Comments Due: 5 p.m. ET 8/14/15.

Docket Numbers: ER15-2263-000.

Applicants: Southwest Power Pool, Inc.

Description: § 205(d) Rate Filing: 1154R11 Associated Electric Cooperative NITSA and NOA to be effective 7/1/2015.

Filed Date: 7/24/15.

Accession Number: 20150724-5047.

Comments Due: 5 p.m. ET 8/14/15.

Take notice that the Commission received the following electric securities filings:

Docket Numbers: ES15-32-000.

Applicants: Duquesne Light Company.

Description: Amendment to June 5, 2015 Application of Duquesne Light Company Pursuant to Section 204 of the Federal Power Act for an Order Authorizing the Issuance of Short-Term Indebtedness.

Filed Date: 7/23/15.

Accession Number: 20150723-5148.

Comments Due: 5 p.m. ET 8/3/15.

Take notice that the Commission received the following public utility holding company filings:

Docket Numbers: PH15-17-000.

Applicants: Wisconsin Energy Group, Inc.

Description: Wisconsin Energy Group, Inc. submits FERC 65-B Notice of Material Change in Facts of Waiver Notification.

Filed Date: 7/23/15.

Accession Number: 20150723-5164.

Comments Due: 5 p.m. ET 8/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2015.
Nathaniel J. Davis, Sr.,
Deputy Secretary.

[FR Doc. 2015-18786 Filed 7-30-15; 8:45 am]

BILLING CODE 6717-01-P